DEPARTMENT OF COMMERCE

National Institute of Standards and Technology

Prospective Grant of Exclusive Patent License

AGENCY: National Institute of Standards and Technology, Department of Commerce.

ACTION: Notice; prospective grant of exclusive patent license.

SUMMARY: This is a notice in accordance with 35 U.S.C. 209(e) and 37 CFR 404.7(a)(1)(i) that the National Institute of Standards and Technology (“NIST”), U.S. Department of Commerce, is contemplating the grant of an exclusive license in the United States of America, its territories, possessions and commonwealths, to NIST's interest in the invention embodied in U.S. Patent Application No. 15/188,211, titled “Acousto-Microwave System for Determining Mass or Leak of Gas in a Vessel and Process for Same,” (NIST Docket No. 15-010US1) to Western Energy Support & Technology, Inc. The grant of the license would be for leak rate testing and gas flow standards fields of uses.

FOR FURTHER INFORMATION CONTACT: Jeffrey DiVietro, National Institute of Standards and Technology, Technology Partnerships Office, 100 Bureau Drive, Stop 2200, Gaithersburg, MD 20899, (301) 975-8779, jeffrey.divietro@nist.gov.

SUPPLEMENTARY INFORMATION: The prospective exclusive license will be royalty bearing and will comply with the terms and conditions of 35 U.S.C. 209 and 37 CFR 404.7. The prospective exclusive license may be granted unless, within fifteen (15) days from the date of this published Notice, NIST receives written evidence and argument which establish that the grant of the license would not be consistent with the requirements of 35 U.S.C. 209 and 37 CFR 404.7. The Patent Application was filed on June 21, 2016 and describes systems and methods for determining a quantity of gas in a container.

Dated: July 14, 2016.
Phillip Singerman,
Associate Director for Innovations and Industry Services.

[FR Doc. 2016-17106 Filed 7-19-16; 8:45 am]

BILLING CODE 3510-13-P